SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and an extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than March 10, 2014. Individuals can obtain copies of the collection instruments by writing to the above email address.

1. Government Pension Questionnaire—20 CFR 404.408a—0960-0160. The basic Social Security benefits application (OMB No. 0960-0618) contains a lead question asking if the applicants are qualified (or will qualify) to receive a government pension. If the applicants answer “yes,” they complete Form SSA-3885, either on paper or with an SSA claims representative during a personal interview. If the applicants are not entitled to receive a government pension at the time they apply for Social Security benefits, SSA requires them to provide the government pension information as beneficiaries when they become eligible to receive their pensions. Regardless of the timing, at some point the applicants or beneficiaries must complete and sign Form SSA-3885 to report information about their government pensions before the pensions begin. SSA uses the information to: (1) determine whether the Government Pension Offset provision applies; (2) identify exceptions as stated in 20 CFR 404.408a; and (3) determine the benefit reduction amount and effective date. If the applicants and beneficiaries do not respond using this questionnaire, SSA offsets their entire benefit amount. The respondents are applicants or recipients of spousal benefits who are eligible for or already receiving a Government pension.

Type of Request: Revision of an OMB- approved information collection.

Modality of completion | Number of respondents | Frequency of response | Average burden per response (minutes) | Estimated total annual burden (hours)
SSA-3885 | 76,000 | 1 | 13 | 16,467

2. RS/DI Quality Review Case Analysis: Sampled Number Holder, Auxiliaries/Survivors, Parents, and Stewardship Annual Earnings Test Workbook—0960-0189. Section 205(a) of the Social Security Act (Act) authorizes the Commissioner of SSA to conduct the quality review process, which entails collecting information related to the accuracy of payments made under the Old-Age, Survivors, and Disability Insurance Program (OASDI). Sections 228(a)(3), 1614(a)(1)(B), and 1836(2) of the Act require a determination of the citizenship or alien status of the beneficiary; this is only one item that we might question as part of the Annual Quality review. SSA uses Forms SSA-2930, SSA-2931, and SSA-2932 to establish a national payment accuracy rate for all cases in payment status, and to serve as a source of information regarding problem areas in the Retirement Survivors Insurance (RSI) and Disability Insurance (DI) programs. We also use the information to measure the accuracy rate for newly adjudicated RSI or DI cases.

SSA uses Form SSA-4659 to evaluate the effectiveness of the annual earnings testand to implement ongoing improvements in the process. About twenty-five percent of respondents will have in-person reviews and receive one of the following appointment letters: (1) SSA-L8550-U3 (Appointment Letter—Sample Individual); (2) SSA-L8551-U3 (Appointment Letter—Sample Family); or (3) the SSA-L8552-U3 (Appointment Letter—Rep Payee). Seventy-five percent of respondents will receive a notice for a telephone review using the SSA-L8553-U3 (Beneficiary Telephone Contact) or the SSA-L8554-U3 (Rep Payee Telephone Contact).

To help the beneficiary prepare for the interview, we include three forms with each notice: (1) SSA-85 (Information Needed to Review Your Social Security Claim) lists the information the beneficiary will need to gather for the interview; (2) SSA-2935 (Authorization to the Social Security Administration to Obtain Personal Information) verifies the beneficiary's correct payment amount, if necessary; and (3) SSA-8552 (Interview Confirmation) confirms or reschedules the interview if necessary. The respondents are a statistically valid sample of all OASDI beneficiaries in current pay status or their representative payees.

Type of Request: Revision of an OMB-approved information collection.

Modality of completion | Number of responses | Frequency of response | Average burden per response (minutes) | Estimated total annual burden (hours)
SSA-2930 | 1,500 | 1 | 30 | 750
SSA-2931 | 850 | 1 | 30 | 425
SSA-4659 | 325 | 1 | 10 | 54
SSA-L8550-U3 | 385 | 1 | 5 | 32
SSA-L8551-U3 | 95 | 1 | 5 | 8
SSA-L8552-U3 | 35 | 1 | 5 | 3
SSA-L8553-U3 | 4490 | 1 | 5 | 374
SSA-L8554-U3 | 670 | 1 | 5 | 56
SSA-8552 | 2350 | 1 | 5 | 196
SSA-85 | 3850 | 1 | 5 | 321
SSA-2935 | 2350 | 1 | 5 | 196
SSA-820/821 (also saved under OMB: 0960-0598 and 0960-0059) | 400 | 1 | 15 | 100
SSA-8510 (also saved under OMB No. 0960-0707) | 800 | 1 | 5 | 67
Totals | 18,100 |  |  | 2,582

3. Appeal of Determination for Help with Medicare Prescription Drug Plan Costs—0960-0695. Public Law 108-173, the Medicare Prescription Drug, Improvement, and Modernization Act of 2003 (MMA), established the Medicare Part D program for voluntary prescription drug coverage for certain low-income individuals. The MMA stipulates the provision of subsidies for individuals who are eligible for the program and who meet eligibility criteria for help with premium, deductible, or co-payment costs. SSA uses Form SSA-1021, Appeal of Determination for Help with Medicare Prescription Drug Plan Costs, to obtain information from individuals who appeal SSA's decisions regarding eligibility or continuing eligibility for a Medicare Part D subsidy. The respondents are applicants who are appealing SSA's eligibility or continuing eligibility decisions.

Type of Request: Revision of an OMB-approved information collection.

Modality of completion | Number of respondents | Frequency of response | Average burden per response (minutes) | Estimated total annual burden (hours)
SSA-1021 (Paper form) | 2,330 | 1 | 10 | 388
SSA-1021 (Internet-Medicare Application Processing System) | 14,008 | 1 | 10 | 2,335
Totals | 16,338 |  |  | 2,723

4. Sheltered Workshop Wage Reporting—0960-0771. Sheltered workshops are non-profit organizations or institutions that implement a recognized program of rehabilitation for handicapped workers, or provide such workers with remunerative employment or other occupational rehabilitative activity of an educational or therapeutic nature. Sheltered workshops perform a service for their clients by reporting monthly wages directly to SSA. SSA uses the information these workshops provide to verify and post monthly wages to the Supplemental Security Income (SSI) recipient's record. Most workshops report monthly wage totals to their local SSA office so we can adjust the client's SSI payment amount in a timely manner and prevent overpayments. Sheltered workshops are motivated to report wages voluntarily as a service to their clients. Respondents are sheltered workshops that report monthly wages for services performed in the workshop.

Type of Request: Revision of an OMB-approved information collection.

Modality of completion | Number of respondents | Frequency of response | Average burden per response (minutes) | Estimated total annual burden (hours)
Sheltered Workshop Wage Reporting | 800 | 12 | 15 | 2,400

II. SSA submitted the information collection below to OMB for clearance. Your comments regarding the information collection would be most useful if OMB and SSA receive them 30 days from the date of this publication. To be sure we consider your comments, we must receive them no later than February 6, 2014. Individuals can obtain copies of the OMB clearance packages by writing to OR.Reports.Clearance@ssa.gov.

Methods for Conducting Personal Conferences When Waiver of Recovery of a Title II or Title XVI Overpayment Cannot Be Approved—20 CFR 404.506(e)(3), 404.506(f)(8), 416.557(c)(3), and 416.557(d)(8)—0960-0769. SSA conducts personal conferences when we cannot approve a waiver of recovery of a Title II or Title XVI overpayment. We are required to give overpaid Social Security beneficiaries and SSI recipients the right to request a waiver of recovery and automatically schedule a personal conference if we cannot approve their request for waiver of overpayment. We conduct these conferences face-to-face, by telephone, or by video teleconference. Social Security beneficiaries and SSI recipients or their representatives may provide documents to demonstrate they are without fault in causing the overpayment and do not have the ability to repay the debt. They may submit these documents by completing Form SSA-632 (OMB No. 0960-0037); Request for Waive of Overpayment Recovery; SSA-795 (OMB No. 0960-0045), Statement of Claimant or Other Person; or personal statement submitted by mail, telephone, personal contact, or other suitable method, such as fax or email. This information collection satisfies the requirements for request for waiver of recovery of an overpayment and allows individuals to pursue further levels of administrative appeal via personal conference. Respondents are Social Security beneficiaries and SSI recipients or their representatives seeking reconsideration of an SSA waiver decision.

Type of Request: Extension of an OMB-approved information collection.

Title/section & collection description | Number of respondents | Frequency of response | Average burden per response (minutes) | Estimated total annual burden (hours)
Personal Conference 404.506(e)(3) and 404-506(f)(8) submittal of documents, additional mitigating financial information, and verifications for consideration at personal conferences. | 40,000 | 1 | 30 | 20,000
Personal Conference 416.557(c)(3) and 416-557(d)(8) submittal of documents, additional mitigating financial information, and verifications at personal conferences. | 63,801 | 1 | 30 | 31,901
Totals | 103,801 |  |  | 51,901

Date: January 1, 2014.
Faye Lipsky,
Reports Clearance Director, Social Security Administration.

[FR Doc. 2014-00001 Filed 1-6-14; 8:45 am]

BILLING CODE 4191-02-P